DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Talladega (FEMA Docket No.: B-7766) | Unincorporated areas of Talladega County (07-04-6542P) | December 14, 2007; December 21, 2007; The Daily Home | The Honorable James G. Hilber, Administrator, Talladega County, P.O. Box 6170, Talladega, AL 35161 | March 21, 2008 | 010297
California:
Riverside (FEMA Docket No.: B-7766) | City of Corona (07-09-1194P) | November 1, 2007; November 8, 2007; The Press-Enterprise | The Honorable Eugene Montanez, Mayor, City of Corona, 400 South Vincentia Avenue, Corona, CA 92882 | February 7, 2008 | 060250
Santa Barbara (FEMA Docket No.: B-7766) | Unincorporated areas of Santa Barbara County (06-09-BF87P) | December 20, 2007; December 27, 2007; Santa Barbara News-Press | The Honorable Brooks Firestone, Chair, Santa Barbara County Board of Supervisors, 105 East Anapamu Street, Santa Barbara, CA 93101 | December 6, 2007 | 060331
Colorado:
El Paso (FEMA Docket No.: B-7766) | Unincorporated areas of El Paso County (07-08-0324P) | December 5, 2007; December 12, 2007; El Paso County Advertiser and News | The Honorable Dennis Hisey, Chairman, El Paso County Board of Commissioners, 27 East Vermijo Avenue, Colorado Springs, CO 80903-2208 | March 12, 2008 | 080059
El Paso (FEMA Docket No.: B-7766) | Unincorporated areas of El Paso County (07-08-0475P) | December 12, 2007; December 19, 2007; El Paso County Advertiser and News | The Honorable Dennis Hisey, Chairman, El Paso County Board of Commissioners, 27 East Vermijo Avenue, Colorado Springs, CO 80903 | November 30, 2007 | 080059
Jefferson (FEMA Docket No.: B-7766) | City of Arvada (07-08-0940P) | December 13, 2007; December 20, 2007; The Golden Transcript | The Honorable Ken Fellman, Mayor, City of Arvada, 8101 Ralston Road, Arvada, CO 80002 | March 20, 2008 | 085072
Florida: Polk (FEMA Docket No.: B-7766) | Unincorporated areas of Polk County (07-04-5883P) | December 12, 2007; December 19, 2007; The Polk County Democrat | Mr. Bob English, Chairman, Polk County Board of Commissioners, P.O. Box 9005, Drawer BC01, Bartow, FL 33831 | March 19, 2008 | 120261
Georgia: Columbia (FEMA Docket No.: B-7766) | Unincorporated areas of Columbia County (07-04-4973P) | December 12, 2007; December 19, 2007; Columbia County News-Times | The Honorable Ron C. Cross, Chairman, Columbia County Board of Commissioners, P.O. Box 498, Evans, GA 30809 | March 19, 2008 | 130059
Illinois:
Cook (FEMA Docket No.: B-7766) | City of Hickory Hills (07-05-6033P) | December 13, 2007; December 20, 2007; The Reporter | The Honorable Michael Howley, Mayor, City of Hickory Hills, 8652 West 95th Street, Hickory Hills, IL 60457 | November 30, 2007 | 170103
Morgan (FEMA Docket No.: B-7772) | City of Jacksonville (07-05-0512P) | January 10, 2008; January 17, 2008; Jacksonville Journal-Courier | The Honorable Ron Tendick, Mayor, City of Jacksonville, 200 West Douglas Avenue, Jacksonville, IL 62650 | December 12, 2007 | 170516
Kentucky: Jefferson (FEMA Docket No.: B-7766) | Metropolitan Government of Louisville-Jefferson County (07-04-4634P) | December 13, 2007; December 20, 2007; The Courier Journal | The Honorable Jerry E. Abramson, Mayor, Metropolitan Government of Louisville-Jefferson County, 527 West Jefferson Street, Louisville, KY 40202 | March 20, 2008 | 210120
Missouri:
Jackson (FEMA Docket No.: B-7761) | City of Lee's Summit (07-07-1867P) | November 23, 2007; November 30, 2007; Lee's Summit Journal | The Honorable Karen Messerli, Mayor, City of Lee's Summit, 220 Southeast Green Street, Lee's Summit, MO 64063 | December 10, 2007 | 290174
St. Charles (FEMA Docket No.: B-7766) | Unincorporated areas of St. Charles County (07-07-1738P) | December 12, 2007; December 19, 2007; St. Charles Journal | The Honorable Steve Ehlmann, County Executive, St. Charles County, 201 North Second Street, St. Charles, MO 63301 | December 21, 2007 | 290315
Nevada: Washoe (FEMA Docket No.: B-7761) | Unincorporated areas of Washoe County (07-09-1314P) | November 14, 2007; November 21, 2007; Reno Gazette-Journal | The Honorable Robert Larkin, Chair, Washoe County Board of Commissioners, P.O. Box 11130, Reno, NV 89520 | November 30, 2007 | 320019
South Carolina:
Greenville (FEMA Docket No.: B-7766) | Unincorporated areas of Greenville County (07-04-4899P) | December 13, 2007; December 20, 2007; The Greenville News | The Honorable Butch Kirven, Chairman, Greenville County Council, 213 League Road, Simpsonville, SC 29681 | March 20, 2008 | 450089
Greenville (FEMA Docket No.: B-7766) | Unincorporated areas of Greenville County (07-04-5198P) | December 13, 2007; December 20, 2007; The Greenville News | Mr. Joseph Kernell, County Administrator, Greenville County, 301 University Ridge, Suite 2400, Greenville, SC 29601 | March 20, 2008 | 450089
Greenville (FEMA Docket No.: B-7766) | Unincorporated areas of Greenville County (07-04-5413P) | December 13, 2007; December 20, 2007; The Greenville News | The Honorable Butch Kirven, Chairman, Greenville County Council, 213 League Road, Simpsonville, SC 29681 | March 20, 2008 | 450089
South Dakota: Pennington (FEMA Docket No.: B-7766) | City of Hill City (07-08-0906P) | December 12, 2007, December 19, 2007; Hill City Prevailer-News | The Honorable Don Voorhees, Mayor, City of Hill City, City Hall, 324 Main Street, Hill City, SD 57745 | November 30, 2007 | 460116
Texas:
Collin (FEMA Docket No.: B-7766) | City of McKinney (08-06-0334P) | December 6, 2007; December 13, 2007; McKinney Courier-Gazette | The Honorable Bill Whitfield, Mayor, City of McKinney, 222 North Tennessee Street, McKinney, TX 75069 | November 21, 2007 | 480135
Collin and Dallas (FEMA Docket No.: B-7766) | City of Sachse (07-06-2553P) | December 14, 2007; December 21, 2007; The Rowlett Lakeshore Times | The Honorable Mike Felix, Mayor, City of Sachse, 5109 Peachtree Lane, Sachse, TX 75048 | March 21, 2008 | 480186
Dallas (FEMA Docket No.: B-7766) | Town of Highland Park (07-06-1969P) | December 13, 2007; December 20, 2007; The Park Cities News | The Honorable William D. White, Jr., Mayor, Town of Highland Park, 4700 Drexel Drive, Highland Park, TX 75205 | March 20, 2008 | 480178
El Paso (FEMA Docket No.: B-7766) | City of El Paso (07-06-2364P) | December 13, 2007; December 20, 2007; El Paso Times | The Honorable John Cook, Mayor, City of El Paso, Two Civic Center Plaza, Tenth Floor, El Paso, TX 79901 | November 30, 2007 | 480214
Johnson (FEMA Docket No.: B-7766) | City of Burleson (07-06-2685P) | December 12, 2007; December 19, 2007; Burleson Star | The Honorable Kenneth Shetter, Mayor, City of Burleson, 141 West Renfro Street, Burleson, TX 76028 | March 19, 2008 | 485459
Tarrant (FEMA Docket No.: B-7766) | City of North Richland Hills (07-06-2421P) | December 13, 2007; December 20, 2007; Fort Worth Star-Telegram | The Honorable T. Oscar Trevino, Jr., P.E., Mayor, City of North Richland Hills, 7301 Northeast Loop 820, North Richland Hills, TX 76180 | March 20, 2008 | 480607
Virginia:
Fauquier (FEMA Docket No.: B-7766) | Unincorporated areas of Fauquier County (07-03-1209P) | December 5, 2007; December 12, 2007; Fauquier Times Democrat | The Honorable Harry Atherton, Chairman, Fauquier County Board of Supervisors, 10 Hotel Street, Suite 208, Warrenton, VA 20186 | March 12, 2008 | 510055
Fauquier (FEMA Docket No.: B-7766) | Unincorporated areas of Fauquier County (07-03-1250P) | October 31, 2007; November 7, 2007; Fauquier Times Democrat | The Honorable Harry Atherton, Chairman, Fauquier County Board of Supervisors, 10 Hotel Street, Suite 208 Warrenton, VA 20186 | February 7, 2008 | 510055

(Catalog of Federal Domestic Assistance No. 97.022, “Flood Insurance.”)

Dated: May 28, 2008.
David I. Maurstad,
Federal Insurance Administrator of the National Flood Insurance Program, Department of Homeland Security, Federal Emergency Management Agency.

[FR Doc. E8-13210 Filed 6-11-08; 8:45 am]

BILLING CODE 9110-12-P